DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 p.m. in Suite 4100W, U.S. Department of Commerce, Franklin Court Building, 1099 14th Street, NW., Washington, DC.

Docket Number: 04-001. Applicant: The New York Structural Biology Center, Inc., 89 Convent Avenue at 133rd Street, New York, NY 10027. Instrument: Electron Microscope, Model Tecnai G² F20 Twin Cryo. Manufacturer: FEI Company, the Netherlands.

Intended Use: The instrument is intended to be used in the following investigations:

1. Frozen-hydrated specimens and methods of cryotomography will be used to eliminate specimen preparation artifacts as a potential factor and to establish this methodology as an alternative to plastic sections.

2. The architecture of adherens junctions will be studied either in epidermis, in cultured keratinocytes, or in lens tissue.

3. Study the structure and function of the dense cytoplasmic plaque by isolating epidermis from transgenic mice with knockout of several key desmosomal components: plakoglobin, desmoplakin, desmocollin, and keratin 5.

4. Study the assembly of both adherens junctions and desmosomes in cultured keratinocytes using calcium to initiate junction assembly between confluent cell cultures.

Application accepted by Commissioner of Customs: January 16, 2004.

Docket Number: 04-002. Applicant: University of Colorado, Bolder, Department ECE, UCB 425, Colorado & Folsom, Boulder, CO 80309-0425. Instrument: Fiber Laser System, Model E15. Manufacturer: Koheras A/S, Denmark. Intended Use: The instrument is intended to be used to perform spatial-spectral holography experiments on inhomogeneously broadened Er³⁺:YSO crystals for use in signal processing schemes. Application accepted by Commissioner of Customs: January 16, 2004.

Docket Number: 04-003. Applicant: Research Foundation of the City University of New York, 555 West 57th Street, New York, NY 10019. Instrument: Femtosecond Fiber Laser, Model Femtolite C-20-SP. Manufacturer: IMRA America, Inc., Japan. Intended Use: The instrument is intended to be used as a source to generate THz radiation on 100 fs scale to study biological materials, liquids, and gases. Torsional vibrational motions and relaxation times for biological materials, dielectric relaxation properties for liquid samples and coherent transients (photon echoes) properties attributed to simultaneous excitations for a manifold of rotational transitions of gas molecules will be investigated. THz time-domain spectroscopy and Thz time-resolved spectroscopy experiments will be conducted. Application accepted by Commissioner of Customs: January 20, 2004.

Docket Number: 04-004. Applicant: University of California, Santa Barbara, Engineering Materials Department, Engineering II, Room 1355, Santa Barbara, CA 93106-5050. Instrument: Electron Microscope, Model Tecnai G² F30 U-TWIN. Manufacturer: FEI Company, the Netherlands. Intended Use: The instrument is intended to be used for observations in engineering materials including:

1. Electronic Materials

a. nitride semiconductors

b. strain relaxation in misfitting semiconductor layers

2. Structural Materials

a. thermal barrier coatings

b. materials performance and reliability

c. ceramic matrix composites

d. functional thin films

3. Inorganic Materials

a. nanoporous materials

b. mixed metal oxides

c. electronic inorganic and structural materials

Application accepted by Commissioner of Customs: February 4, 2004.

Docket Number: 04-005. Applicant: University of California, Santa Barbara, Engineering Materials Department, Engineering II, Room 1355, Santa Barbara, CA 93106-5050. Instrument: Electron Microscope, Model Tecnai G² Sphera. Manufacturer: FEI Company, the Netherlands. Intended Use: The instrument is intended to be used in observations of macromolecular and biomaterials including:

1. Block copolymers, blends and interfaces

2. Block copolypeptides

3. Bio-macromolecular complexes

Application accepted by Commissioner of Customs: February 4, 2004.

Gerald A. Zerdy,
Program Manager, Statutory Import Programs Staff.

[FR Doc. 04-4393 Filed 2-26-04; 8:45 am]

BILLING CODE 3510-DS-P